DEPARTMENT OF HEALTH AND HUMAN SERVICES

National Institutes of Health

Center for Scientific Review; Amended Notice of Meeting

Notice is hereby given of a change in the meeting of the Biophysics of Neural Systems Study Section, June 12, 2008, 8 a.m. to June 12, 2008, 8 p.m., Hotel Lombardy, 2019 Pennsylvania Avenue, NW., Washington, DC 20006 which was published in the Federal Register on April 29, 2008, 73 FR 23257-23259.

The meeting will be held June 12, 2008, 8 a.m. to June 13, 2008, 4 p.m. The meeting location remains the same. The meeting is closed to the public.

Dated: May 7, 2008.
Jennifer Spaeth,
Director, Office of Federal Advisory Committee Policy.

[FR Doc. E8-10671 Filed 5-14-08; 8:45 am]

BILLING CODE 4140-01-M